DEPARTMENT OF AGRICULTURE

Forest Service

Information Collection; Generic Clearance for Non-Timber Forest Products

AGENCY: Forest Service, USDA.

ACTION: Notice; request for comment.

SUMMARY: In accordance with the Paperwork Reduction Act of 1995, the Forest Service is seeking comments from all interested individuals and organizations on the new information collection, Non-timber Forest Products.

DATES: Comments must be received in writing on or before August 16, 2016 to be assured of consideration. Comments received after that date will be considered to the extent practicable.

ADDRESSES: Comments concerning this notice should be addressed to Lynne Westphal, USDA, Forest Service, Northern Research Station, 1033 University Place, Suite 360, Evanston, IL 60201.

Comments also may be submitted via facsimile to 847-866-9506 or by email to: lwestphal@fs.fed.us. Please clearly state that your comments are in reference to the proposed Generic Clearance for Non-timber Forest Products. Comments submitted in response to this notice may be made available to the public through relevant Web sites and upon request. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

The public may inspect the draft supporting statement and/or comments received at USDA, Forest Service, Northern Research Station, 1033 University Place, Suite 360, Evanston, IL 60201 during normal business hours. Visitors are encouraged to call ahead to 847-866-9311 to facilitate entry to the building. The public may request an electronic copy of the draft supporting statement and/or any comments received be sent via return email. Requests should be emailed to lwestphal@fs.fed.us.

FOR FURTHER INFORMATION CONTACT: Lynne Westphal, USDA, Forest Service, Northern Research Station, 847-866-9311 x11. Individuals who use telecommunication devices for the deaf (TDD) may call the Federal Information Relay Service (FIRS) at 1-800-877-8339 twenty-four hours a day, every day of the year, including holidays.

SUPPLEMENTARY INFORMATION: Title: Non-Timber Forest Products.

OMB Number: 0596—NEW.

Type of Request: New.

Abstract: Non-timber forest products (NTFPs) are plants, mushrooms, and plant- or tree-derived goods like nuts, boughs, sap, and leaves that are harvested for use as food, medicine, and other purposes. Previous research suggests that approximately 20% of the U.S. population collects non-timber forest products for social, cultural, and/or economic reasons. Some non-timber forest product gathering is formal (planned, systematic) while much of it is informal (unplanned, opportunistic, and/or incidental to other outdoor recreation activities). For some people, harvested wild plants and mushrooms make up a substantial or nutritionally important part of their diet. In other cases, non-timber forest products are locally or regionally important products for businesses.

Many opportunities exist to design and manage forests and other natural areas to enhance the supply of non-timber forest products and increase the benefits they provide to society, and to maintain populations of, or adapt to loss of, important non-timber forest products in the face of changes like invasive species and climate impacts. Potential benefits include improved public health outcomes from outdoor activity including decreased obesity, diabetes, stress, and depression. Harvesting and consuming non-timber forest products also may help reduce the risk of malnutrition for individuals living in areas with limited access to fresh, affordable food. Designing and managing for non-timber forest products may have particular value in achieving environmental justice, as harvesting wild plants and mushrooms appears to be especially important for recent immigrants, American Indians, and Alaska Natives. However, managing forests and other natural areas to provide non-timber forest products in a sustainable way requires detailed, scientifically-based information that is not currently available. For example, it is important to avoid overharvesting any species and to minimize people's exposure to soil- and plant-based contaminants.

Many laws and policies specifically direct the USDA Forest Service (Forest Service) to consider and manage for non-timber forest products for the benefit of the American public. The Multiple-Use Sustained-Yield Act of 1960 requires the Forest Service to manage National Forests “under principles of multiple use and to produce a sustained yield of products and services.” The Forest and Rangeland Renewable Resources Planning Act (RPA) of 1974 requires the Secretary of Agriculture to “maintain a comprehensive inventory of renewable resources and evaluate opportunities to improve their yield of goods and services.” The 2012 Planning Rule specifically requires “consideration of habitat conditions for wildlife, fish, and plants commonly enjoyed and used by the public for hunting, fishing, trapping, gathering, observing, and subsistence” on national forests [italics added]. The Forest Service's 2010 National Report on Sustainable Forests affirms the agency's “all-lands” approach to managing the nation's natural resources, including forests that are not part of the National Forest system by providing useful information and management guidelines for potential adoption by nonfederal forest owners; gathering of non-timber forest products is addressed many times in this report. The United States is a signatory to the Montreal Process and is required to report every 5 years on a range of criteria and indicators for sustainable use of temperate and boreal forests. Several of the indicators address non-timber forest products, including one on subsistence uses of U.S. forests, but the only systematic data currently available on subsistence practices in the United States are for Alaska.

The Forest Service must also meet trust responsibilities to American Indians and Alaskan Natives on federal and tribal lands. This includes upholding treaties with American Indian tribes, the Federal Trust responsibility to tribes, and the Native American Religious Freedom Act. Non-timber forest products make up a significant amount of the natural resources that tribes depend on for traditional cultural uses related to health, economic and food security, and native customs and practices. Much of the historical and ethnographic information about the uses of non-timber forest products by American Indians and Alaskan Natives may not reflect contemporary uses and issues. Gaining new information can help us understand how uses of non-timber forest products have changed over time in response to management, socio-cultural circumstances, the economic conditions of tribes, and environmental forces of change.

Taking all of this into account, it is clear that Forest Service and other public and private land managers need general and place-specific information about non-timber forest products and non-timber forest product harvesting practices—and this information is not currently available. Therefore, to ensure that the Forest Service can meet its statutory and regulatory responsibilities and is able to inform management of forests and other natural areas to provide non-timber forest products in a sustainable way, the Forest Service seeks to obtain OMB approval to collect information from people who harvest non-timber forest products and from people who manage, make policies for or otherwise have a stake in the management of lands where non-timber forest products are harvested or may be harvested.

Affected Public: Individuals and Households, Businesses and Non-Profit Organizations, and/or State, Local or Tribal Government.

Estimate of Burden per Response: 30-90 minutes.

Estimated Annual Number of Respondents: 2,000.

Estimated Annual Number of Responses per Respondent: 1.

Estimated Total Annual Burden on Respondents: 1,000-3,000 hours.

Comment is invited: Comment is invited on: (1) Whether this collection of information is necessary for the stated purposes and the proper performance of the functions of the Forest Service, including whether the information will have practical or scientific utility; (2) the accuracy of the Forest Service's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 9, 2016.
Carlos Rodriguez-Franco,
Acting Deputy Chief for Research and Development.

[FR Doc. 2016-14316 Filed 6-16-16; 8:45 am]

BILLING CODE 3411-15-P